DEPARTMENT OF COMMERCE

Foreign-Trade Zones Board

[Order No. 1968]

Expansion of Foreign-Trade Zone 174 Under Alternative Site Framework, Tucson, Arizona

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, Tucson Regional Economic Opportunities, grantee of Foreign-Trade Zone 174, has applied to the Board (FTZ Docket B-35-2011, docketed 05/23/2011, amended 05/21/2014) for authority to expand FTZ 174 under the ASF to include additional magnet sites, adjacent to the Tucson, Arizona U.S. Customs and Border Protection port of entry;

Whereas, notice inviting public comment was given in the Federal Register (76 FR 30907, 05/27/2011 and 79 FR 31297, 06/02/2014) and the application has been processed pursuant to the FTZ Act and the Board's regulations; and,

Whereas, the Board adopts the findings and recommendation of the examiner's report, and finds that the requirements of the FTZ Act and the Board's regulations are satisfied, in part;

Now, Therefore, the Board hereby orders:

The application to reorganize FTZ 174 under the ASF is approved as it pertains to the Red Rock Industrial Park (designated as Site 8) and the Sunshine Industrial Park (designated as Site 9), subject to the FTZ Act and the Board's regulations, including section 400.13, to the Board's standard 2,000-acre activation limit for the zone, and to an ASF sunset provision for magnet sites that would terminate authority for Site 8 and Site 9 if not activated within five years from the month of approval.

Signed at Washington, DC this 3rd day of April 2015.
Paul Piquado,
Assistant Secretary of Commerce for Enforcement and Compliance, Alternate Chairman, Foreign-Trade Zones Board.

[FR Doc. 2015-08444 Filed 4-10-15; 8:45 am]

BILLING CODE 3510-DS-P